DEPARTMENT OF HEALTH AND HUMAN SERVICES

Indian Health Service

[Funding Opportunity Number: HHS-2007-IHS-TSGP-0001; CFDA Number: 93.210]

Tribal Self-Governance Program; Planning Cooperative Agreement; New Funding Cycle for Fiscal Year 2007

Key Dates: Applications Due-November 16, 2006.

Objective Review Committee to Evaluate Applications-December 7-8, 2006.

Anticipated Project Start Date-January 15, 2007.

I. Funding Opportunity Description

The purpose of the program is to award cooperative agreements that provide planning resources to Tribes interested in participating in the Tribal Self-Governance Program (TSGP) as authorized by Title V, Tribal Self-Governance Amendments of 2000 of the Indian Self-Determination and Education Assistance Act of Public Law (Pub. L.) 93-638, as amended. There is limited competition under this announcement because the authorizing legislation restricts eligibility to Tribes that meet specific criteria. (Refer to Section III (1.) (A), Eligible Applicants in this announcement.) The TSGP is designed to promote self-determination by allowing Tribes to assume more control of Indian Health Service (IHS) programs and services through compacts negotiated with the IHS. The Planning Cooperative Agreement allows a Tribe to gather information to determine the current types of Programs, Services, Functions, and Activities (PSFAs), and related funding available at the Service Unit, Area, and Headquarters levels and provide the opportunity to improve and enhance the healthcare delivery system to better meet the needs of the Tribal community.

II. Award Information

Type of Award: Planning Cooperative Agreement.

Estimated Funds Available: The total amount identified for Fiscal Year (FY) 2007 is $600,000 for approximately twelve (12) Tribes to enter the TSGP planning process.

Anticipated Number of Awards: The estimated number of awards to be funded is approximately 12.

Project period: 12 months.

Award Amount: $50,000 per year.

Programmatic Involvement: TSGP funds will be awarded as cooperative agreements and will have substantial IHS programmatic involvement to establish a basic understanding of programs, Services, Functions and Activities (PSFAs) and associated funding at the Service Unit, Area, and Headquarters levels.

The IHS roles and responsibilities will include:

• Providing a description of PSFA's and associated funding at all levels, including funding formulas and methodologies related to determining Tribal shares.

• Identification of IHS staff who will consult with applicants on methods currently used to manage and deliver health care.

• Provide applicants with statutes, regulations and policies that provide authority for administering IHS programs.

The Applicants roles and responsibilities will include:

• Research and analyze the complex IHS budget, to gain a thorough understanding of funding distribution at all levels to determine which PSFA's the Tribe may elect to assume.

• Establishment of a process by which Tribes can effectively approach the IHS to identify programs and associated funding which could be incorporated into their current programs.

• Determine Tribe's share of each PSFA and compare with their current level of services provided so that an informed decision can be made on new program assumption.

III. Eligibility Information

1. Eligible Applicants

To be eligible for a Planning Cooperative Agreement under this announcement, an applicant must meet all of the following criteria:

A. Be a federally-recognized Tribe as defined in Title V, Pub. L. 106-260, Tribal Self-Governance Amendments of 2000, of the Indian Self-Determination and Education Assistance Act (the Act), Pub. L. 93-638, as amended. However, Alaska Native Villages or Alaska Native Village Corporations, who are located within the area served by an Alaska Native regional health entity already participating in compact status, are not eligible (Pub. L. 106-260, Title V, Section 12(a)(2)(b)).

2. Cost Sharing or Matching Funds

The Tribal Self-Governance Planning Cooperative Agreement Announcement does not require matching funds or cost sharing to participate in the competitive grant process.

3. Other Requirements

The following documentation is required (if applicable):

A. This program is described at 93.210 in the Catalog of Federal Domestic Assistance.

B. Tribal Resolution—Submit a Tribal resolution from the governing body authorizing the submission of the application for the Tribal Self-Governance Planning Cooperative Agreement. Tribal Consortia applying for a Tribal Self-Governance Planning Cooperative Agreement, shall submit Tribal Council Resolutions from each Tribe in the consortium. Draft resolutions are acceptable in lieu of an official resolution. However, an official signed Tribal resolution must be received by the Office of Tribal Self-Governance, Attn: Jolene Aguilar, 801, Thompson Avenue, Suite 240, Rockville, MD 20852, by Wednesday, December 6, 2006. If an official signed resolution is not received by December 6, 2006, the application will be considered incomplete and will be returned without consideration.

C. Demonstrate, for three fiscal years, financial stability and financial management capability, which is defined as no uncorrected significant and/or material audit exceptions in the required annual audit of the Indian Tribe's self-determination contracts or self-governance funding agreements with any Federal agency.

D. Applicants are required to submit a current version of the organization's audit report. Audit reports can be lengthy, therefore, the applicants may submit them separately via regular mail by the due date (November 16, 2006). If the applicant determines that audit reports are not lengthy, the applicants may scan the documents and attach them to the electronic application. Applicants must submit two copies of the audits that reflect three previous fiscal years under separate cover directly to the Office of Tribal Self-Governance, Attn: Kevin C. Quinn, 801 Thompson Avenue, Suite 240, Rockville, MD 20852, referencing the Funding Opportunity Number, HHS-2007-IHS-0001, as prescribed by Pub. L. 98-502, the Single Audit Act, as amended (see OMB Circular A-133, revised June 24, 1997, Audits of States, Local Governments, and Non-Profit Organizations), for the three previous fiscal years. If this documentation is not received by the due date (November 16, 2006), the application will be considered as unresponsive and will not be considered.

IV. Application and Submission Information

1. Application package and detailed instructions for this announcement can be found on Grants. gov (http://www.grants.gov) or at: http://www.ihs.gov/NonMedicalPrograms/gogp/gogp_funding.asp.

Information regarding the electronic application process may be directed to Michelle G. Bulls, at (301) 443-6528 or via e-mail at michelle.bulls@ihs.gov.

2. Content and Form of Application Submission

All applications should:

• Be single spaced.

• Be typewritten.

• Have consecutively numbered pages.

• Use black type not smaller than 12 characters per one inch.

• Be printed on one side only of standard size 8½″ x 11″ paper.

• Contain a narrative that does not exceed 7 typed pages. (The 7 page narrative does not include the work plan, standard forms, Tribal resolution(s), table of contents, budget, budget justification narrative, and/or other related appendix items.)

Public Policy Requirements: All Federal-wide public policies apply to IHS cooperative agreements with exception of Lobbying and Discrimination.

3. Submission Dates and Times

Applications must be submitted electronically through Grants.gov by Thursday, November 16, 2006. Late applications will not be accepted for processing, will be returned to the applicant, and will not be considered for funding.

4. Intergovernmental Review

This funding opportunity is not subject to Executive Order 12372, “Intergovernmental Review of Federal Programs.” State approval is not required.

5. Funding Restrictions

A. Tribes are only eligible to receive one Tribal Self-Governance Planning Cooperative Agreement award.

B. Each planning cooperative agreement shall not exceed $50,000.

C. The available funds are inclusive of direct and indirect costs.

D. Division of Grants Operations will not acknowledge receipt of applications.

E. Only one planning cooperative agreement will be awarded per applicant.

6. Other Submission Requirements

The application must comply with the following:

A. Table of Contents.

B. Abstract (one page)—Summarizes the project.

C. Application for Federal Assistance (SF-424, Rev. 09/03).

D. Narrative (no more than 7 pages) and should include the following:

(1) Background information on the Tribe.

(2) Proposed scope of work, objectives, and activities that provide a description of what will be accomplished including a one-page Time Frame Chart.

E. A line-item budget and narrative justification.

F. Appendices to include:

(1) Resumes or position descriptions of key staff.

(2) Contractors/Consultants resumes or qualifications and scope of work.

(3) Current Indirect Cost Agreement.

(4) Organizational Chart (Optional).

Electronic Transmission—The preferred method for receipt of applications is electronic submission through Grants.gov. You may not e-mail an electronic copy of a cooperative agreement application to us.

Please note the following:

• Under the new IHS requirements, paper applications are not the preferred method. however, if you have technical problems submitting, your application on-line, have contacted the Grants Policy Staff and advised them of the difficulties you are having in submitting your application on-line, have submitted a waiver request, in writing or e-mail and if it is determined by the Grants Policy Staff that the technical difficulties cannot be resolved and approval has been obtained, you may submit a paper application after you have downloaded the application package from Grants.gov. The paper application may be sent directly to the Division of Grants Operations, 801 Thompson Avenue, TMP 360, Rockville, MD 20852 by the due date, November 16, 2006.

• When you enter the Grants.gov site, you will find information about submitting an application electronically through the site, as well as the hours of operation. We strongly recommend that you do not wait until the deadline date to begin the application process through Grants.gov as the registration process for Central contractor Registry (CCR) and Grants.gov could take up to fifteen working days.

• To use Grants.gov, you, as the applicant, must have a DUNS Number and register in the CCR. See next page on how to apply.

• You must submit all documents electronically, including all information typically included on the SF-424 and all necessary assurances and certifications.

Note: Please use the optional attachment feature in Grants.gov to attach additional documentation that may be requested by IHS.)

• Your application must comply with any page limitation requirements described in the program announcement.

• After you electronically submit your application, you will receive an automatic acknowledgment from Grants.gov that contains a Grants.gov tracking number. The Indian Health Service, DGO will retrieve your application from Grants.gov.

• You may access the electronic application for this program on http://www.Grants.gov.

• You must search for the downloadable application package by CFDA number.

• E-mail applications will not be accepted under this announcement.

DUNS Number: Since October 1, 2003, applicants are now required to have a Dun and Bradstreet (DUNS) Number. The DUNS number is a nine-digit identification number, which uniquely identifies business entities. Obtaining a DUNS number is easy and there is no charge. To obtain a DUNS number, access http://www.dunandbradstreet.com or call 1-866-705-5711. Interested parties may wish to obtain their DUNS number by phone to expedite the process.

Applications submitted electronically must also be registered with the CCR. A DUNS number is required before CCR registration can be completed. Many organizations may already have a DUNS number. Please use the number listed above to investigate the whether or not your organization has a DUNS number. Registration with the CCR is free of charge.

Applicants may register by calling 1-888-227-2423. Please review and complete the CCR “Registration Worksheet” located on http://www.Grants.gov/CCRRegister.

More detailed information regarding these registration processes can be found at http://www.Grants.gov.

V. Application Review Information

The instructions for preparing the application narrative also constitute the evaluation criteria for reviewing and scoring the application. Weights assigned to each section are noted in parentheses.

1. Criteria

A. Goals and Objectives of the Project (30 Points)

Are the goals and objectives measurable; are they consistent with the purpose of the program and the needs of the people to be served, and are they achievable as demonstrated by the proposed time frame chart?

B. Methodology (20 Points)

Describe fully and clearly the methodology and activities that will be used to accomplish the goals and objectives of the project.

C. Management of Health Program(s) (10 Points)

Does the applicant propose an improved approach to managing the health program(s) and state/demonstrate how the delivery of quality health services will be maintained under self-governance?

D. Organizational Capabilities and Qualifications (25 Points)

Describe the organizational structure of the Tribe and their ability to manage the proposed project. Include resumes or position descriptions of key staff showing requisite experience and expertise and, where applicable, include resumes and scope of work for consultants that demonstrate experience and expertise relevant to the project.

E. Budget and Budget Justification (15 Points)

Submit a line-item budget with a narrative justification for all expenditures identifying reasonable and allowable costs necessary to accomplish the goals and objectives as outlined in the project narrative.

2. Review and Selection Process

In addition to the above criteria/requirements, applications are considered according to the following:

A. Application Submission (Application Deadline: November 16, 2006).

(1) The Applicant and proposed project type is eligible in accordance with this cooperative agreement announcement.

(2) The applicant has not previously received a Tribal Self-Governance Planning Cooperative Agreement award.

(3) Abstract, narrative, budget, required forms, appendices and other material submitted meet the requirements of the announcement allowing the review panel to undertake an in-depth evaluation.

B. Competitive Review of Eligible Applications (Objective Review: December 7-8, 2006). Applications meeting eligibility requirements that are complete, responsive, and conform to this program announcement will be reviewed for merit by the Objective Review Committee (ORC) appointed by the IHS to review and make recommendations on these applications. The review will be conducted in accordance with the IHS Objective Review Guidelines. The technical review process ensures selection of quality projects in a national competition for limited funding. Applications will be evaluated and rated on the basis of the evaluation criteria listed in Section V.1. The criteria are used to evaluate the quality of a proposed project, determine the likelihood of success, and assign a numerical score to each application. The scoring of approved applications will assist the IHS in determining which proposals will be funded if the amount of TSGP funding is not sufficient to support all approved applications. Applications recommended for approval, having a score of 60 or above by the ORC are forwarded to the Division of Grants Operations (DGO) for cost analysis and further recommendation. The program official forwards the recommended approval list to the IHS Director for final review and approval. Applications scoring below 60 points will be disapproved.

Note: In making final selections, the IHS Director will consider the ranking factor and the status of the applicant's three previous years single audit reports. The comments from the ORC will be advisory only. The IHS Director make the final decision on awards.

VI. Award Administration Information

1. Award Notices

The Division of Grants Operations (DGO) will not award a cooperative agreement without an approved application that is in conformance with regulatory and policy requirements. When the application is approved for funding, DGO will prepare a Notice of Award (NOA) with special terms and conditions binding upon the award and refer to all general terms applicable to the award. The NOA, signed by the Grants Management Officer, will serve as the official notification of a cooperative agreement award and will state the amount of Federal funds awarded, the purpose of the cooperative agreement, the terms and conditions of the cooperative agreement award, the effective date of the award, the project period, and the budget period. Any other correspondence announcing to the applicant that an application was selected is not an authorization to begin performance.

2. Administrative and National Policy Requirements

Cooperative agreements are administered in accordance with the following documents:

• This cooperative agreement announcement.

• Health and Human Services regulations governing Pub. L. 93-638 grants at 42 CFR 36.101 et seq.

• 45 CFR Part 92, “Department of Health and Human Services, Uniform Administrative Requirements for Grants and Cooperative Agreements to State and Local Governments Including Indian Tribes.”

• Public Health Service Grants Policy Statement.

• Grants Policy Directives.

• Appropriate Cost Principles: OMB Circular A-87, “State and Local Governments.”

• OMB Circular A-133, “Audits of States, Local Governments, and Non-Profit Organizations.”

• Other Applicable OMB Circulars.

3. Reporting

A. Progress Report. Program progress reports are required semi-annually. These reports will include a brief comparison of actual accomplishments to the goals established for the period, reasons for slippage (if applicable), and other pertinent information as required. A final report must be submitted within 90 days of expiration of the budget/project period.

B. Financial Status Report. Semi-annual financial status reports must be submitted within 30 days of the end of the half year. Final financial status reports are due within 90 days of expiration of the budget/project period. Standard Form 269 (long form) will be used for financial reporting.

C. All reports shall be submitted to the Grants Management Specialist in DGO.

Grantees are responsible and accountable for accurate reporting of the Progress Reports and Financial Status Reports which are generally due semi-annually. Financial Status Reports (SF-269) are due 90 days after each budget period and the final SF-269 must be verified from the grantee records on how the value was derived. Grantees are allowed a reasonable period of time in which to submit financial and performance reports.

Failure to submit required reports within the time allowed may result in suspension or termination of an active cooperative agreement, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.

VII. Agency Contact(s)

1. Questions on the programmatic issues may be directed to: Jolene Aguilar, Program Specialist, Tena Larney, Program Analyst or Office of Tribal Self-Governance, Telephone No.: 301-443-7821; Fax No.: 301-443-1050; E-mail: jolene.aguilar@ihs.gov; E-mail tena.larney@ihs.gov.

2. Questions on grants management and fiscal matters may be directed to: Denise Clark, Grants Management Specialist, Division of Grants Operations, Telephone No.: 301-443-5204; Fax No.: 301-443-9602; E-mail: denise.clark@ihs.gov.

VIII. Other Information

The Public Health Service (PHS) strongly encourages all cooperative agreement and contract recipients to provide a smoke-free workplace and promote the non-use of all tobacco products. In addition, Pub. L. 103-227, the Pro-Children Act of 1994, prohibits smoking in certain facilities (or in some cases, any portion of the facility) in which regular or routine education, library, day care, health care or early childhood development services are provided to children. This is consistent with the PHS mission to protect and advance the physical and mental health of the American people.

Dated: October 6, 2006.
Charles W. Grim, D.D.S., M.H.S.A.
Assistant Surgeon General, Director, Indian Health Service.

[FR Doc. 06-8643 Filed 10-12-06; 8:45 am]

BILLING CODE 4165-16-M